DEPARTMENT OF TRANSPORTATION

National Highway Traffic Safety Administration

[Docket No. NHTSA 2005-23554; Notice 2]

Kawasaki Motors Corp., U.S.A., Grant of Petition for Decision of Inconsequential Noncompliance

Kawasaki Motors Corp., U.S.A. (Kawasaki) has determined that the tires on certain motorcycles that it imported do not comply with S6.5(d) of 49 CFR 571.119, Federal Motor Vehicle Safety Standard (FMVSS) No. 119, “New pneumatic tires for vehicles other than passenger cars.” Pursuant to 49 U.S.C. 30118(d) and 30120(h), Kawasaki has petitioned for a determination that this noncompliance is inconsequential to motor vehicle safety and has filed an appropriate report pursuant to 49 CFR Part 573, “Defect and Noncompliance Reports.” Notice of receipt of a petition was published, with a 30-day comment period, on January 19, 2006, in the Federal Register (71 FR 3152). NHTSA received no comments.

Affected are the tires on a total of approximately 2655 motorcycles which were manufactured between June 14, 2003 and October 27, 2005. S6.5(d) of FMVSS No. 119 requires that the maximum load rating and corresponding inflation pressure of the tires be marked on the tire in both English and metric units. The noncompliant tires do not have the metric markings. Kawasaki has corrected the problem that caused these errors so that they will not be repeated in future production.

Kawasaki believes that the noncompliance is inconsequential to motor vehicle safety and that no corrective action is warranted. Kawasaki states that there is little or no reason to expect an owner of these vehicles to have difficulty inflating the tires properly or understanding the loading information “since the motorcycle owner is provided with the appropriate information in English units, which are far more prevalent in use in the United States.” Further, Kawasaki states that the motorcycles are small and most often used for short distance commuting, and therefore “not likely to be ridden outside of the United States to jurisdictions where tire inflation equipment would be less likely to be calibrated in English units.”

NHTSA agrees that the noncompliance is inconsequential to safety. The correct English unit information required by FMVSS No. 119 is provided and therefore is likely to achieve the safety purpose of the requirement. NHTSA granted a petition for a similar noncompliance by Bridgestone/Firestone North American Tire, LLC in 2004 (69 FR 75106, December 15, 2004).

In consideration of the foregoing, NHTSA has decided that the petitioner has met its burden of persuasion that the noncompliance described is inconsequential to motor vehicle safety. Accordingly, Kawasaki's petition is granted and the petitioner is exempted from the obligation of providing notification of, and a remedy for, the noncompliance.

Authority: (49 U.S.C. 30118, 30120; delegations of authority at CFR 1.50 and 501.8).

Issued on: March 6, 2006.
Daniel C. Smith,
Associate Administrator for Enforcement.

[FR Doc. E6-3412 Filed 3-9-06; 8:45 am]

BILLING CODE 4910-59-P